DEPARTMENT OF THE INTERIOR

Bureau of Land Management

[BLM_CA_FRN_MO4500170079]

Notice of Public Meeting of the Central California Resource Advisory Council

AGENCY: Bureau of Land Management, Interior.

ACTION: Notice of public meeting.

SUMMARY: In accordance with the Federal Land Policy and Management Act and the Federal Advisory Committee Act, the U.S. Department of the Interior, Bureau of Land Management's (BLM) Central California Resource Advisory Council (RAC) will meet as follows.

DATES: A field tour will be held on May 8, 2024, from 12:30 p.m. to 5 p.m. Pacific Time (PT). The Central California RAC will hold a public meeting on May 9, 2024, from 8:30 a.m. to 4 p.m. PT, with a virtual participation option. Written public comments will be accepted prior to the meeting, and a public comment opportunity will begin at 3:30 p.m. PT on the business meeting day. If weather or circumstances arise that prohibit an on-site meeting, the field tour will be cancelled, and the business meeting will be held in an all-virtual format via Zoom, or the meeting will be cancelled. The meeting and field tour are open to the public.

ADDRESSES: The final agenda for the public meeting will be posted on the BLM's web page two weeks in advance of the meeting at https://go.usa.gov/xH9ya. The field tour details, a virtual meeting link, and participation instructions will be made available to the public via BLM news release and the RAC's web page at least two weeks prior to the meeting. The May 8, 2024, field tour will be to the Berryessa Snow Mountain National Monument. The field tour will commence and conclude at Seke Hills Olive Mill, 19326 Country Road 78, Brooks, CA 95606. The May 9, 2024, meeting will be held at the Cache Creek Casino Resort, 14455 Highway 16, Brooks, CA 95606.

Written comments pertaining to the meeting can be sent to the BLM Central California District Office, 5152 Hillsdale Circle, El Dorado Hills, CA 95762, Attention: RAC meeting comments.

FOR FURTHER INFORMATION CONTACT: Public Affairs Officer Philip Oviatt, email: poviatt@blm.gov, or telephone: (661) 432-4252. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Topics for the RAC meeting are as follows: On May 8, 2024, the RAC will tour the Berryessa Snow Mountain National Monument to view a variety of resources, visitor uses, and management activities. To attend the field tour, please RSVP by Friday, May 3, to the individual listed in the FOR FURTHER INFORMATION section of this notice. On May 9, 2024, the RAC will be briefed on the management of the Berryessa Snow Mountain National Monument and identify opportunities to engage in the Monument planning process. The RAC will also receive presentations and make recommendations on fee proposals from the U.S. Department of Agriculture Forest Service for multiple sites located in the Los Padres National Forest, the Sierra National Forest, and the Tahoe National Forest. In addition, the RAC will schedule additional meeting dates for 2024-2025.

The meeting and field tour are open to the public. The formal RAC meeting will have time allocated for public comments. Depending on the number of persons wishing to speak and the time available, the amount of time for oral comments may be limited. Written public comments may be sent to the BLM Central California District Office listed in the ADDRESSES section of this notice. All comments received will be provided to the RAC. Before including your address, phone number, email address, or other personal identifying information in your comment, you should be aware that your entire comment—including your personal identifying information—may be made publicly available at any time. While you can ask us in your comment to withhold your personal identifying information from public review, we cannot guarantee that we will be able to do so.

Members of the public wishing to participate in the field tour must provide their own transportation and meals.

Meeting Accessibility/Special Accommodations: For sign language interpreter services, assistive listening devices, or other reasonable accommodations, please contact the BLM (see FOR FURTHER INFORMATION CONTACT) at least seven business days before the meeting to ensure there is sufficient time to process the request. The Department of the Interior manages accommodation requests on a case-by-case basis.

Detailed minutes for the RAC meetings will be maintained in the BLM Central California District Office. Minutes will also be posted to the BLM Central California RAC web page.

(Authority: 43 CFR 1784.4-2)

Erica St. Michel,
Deputy State Director, Communications.

[FR Doc. 2024-07168 Filed 4-3-24; 8:45 am]

BILLING CODE 4331-15-P